DEPARTMENT OF COMMERCE

International Trade Administration

[A-570-918]

Steel Wire Garment Hangers From the People's Republic of China; 2014-2015; Partial Rescission of the Seventh Antidumping Duty Administrative Review

AGENCY: Enforcement and Compliance, International Trade Administration, Department of Commerce.

SUMMARY: On December 3, 2015, the Department of Commerce (“Department”) published a notice of initiation of an administrative review of the antidumping duty order on steel wire garment hangers from the People's Republic of China (“PRC”). Based on M&B Metal Products Co., Ltd.'s (“Petitioner”) timely withdrawal of the requests for review of certain companies, we are now rescinding this administrative review with respect to 44 companies.

DATES: Effective January 19, 2016.

FOR FURTHER INFORMATION CONTACT: Jessica Weeks, AD/CVD Operations, Office V, Enforcement and Compliance, International Trade Administration, U.S. Department of Commerce, 14th Street and Constitution Avenue NW., Washington, DC 20230; telephone (202) 482-4877.

Background

On October 1, 2015, the Department published a notice of “Opportunity to Request Administrative Review” of the antidumping order on steel wire garment hangers from the PRC.¹ In November 2015, the Department received multiple timely requests to conduct an administrative review of the antidumping duty order on steel wire garment hangers from the PRC.² Based upon these requests, on December 3, 2015, the Department published a notice of initiation of an administrative review of the Order covering the period October 1, 2014, to September 30, 2015.³ The Department initiated the administrative review with respect to 46 companies.⁴ On December 16, 2015, Petitioner withdrew its request for an administrative review on 44 companies.⁵

¹ See Antidumping or Countervailing Duty Order, Finding, or Suspended Investigation; Opportunity To Request Administrative Review, 80 FR 59135 (October 1, 2015).

² See Notice of Antidumping Duty Order: Steel Wire Garment Hangers From the People's Republic of China, 73 FR 58111 (October 6, 2008) (“Order”).

³ See Initiation of Antidumping and Countervailing Duty Administrative Reviews, 80 FR 75657 (December 3, 2015).

⁴ Id.

⁵ See Letter to the Secretary of Commerce from Petitioner “Seventh Administrative Review of Steel Wire Garment Hangers from China—Petitioner's Withdrawal of Review Request” (December 16, 2015).

Partial Rescission

Pursuant to 19 CFR 351.213(d)(1), the Secretary will rescind an administrative review, in whole or in part, if a party who requested the review withdraws the request within 90 days of the date of publication of notice of initiation of the requested review. All requests for administrative reviews on the 44 companies listed in the Appendix were withdrawn.⁶ Accordingly, we are rescinding this review, in part, with respect to these entities, in accordance with 19 CFR 351.213(d)(1).

⁶ As stated in Change in Practice in NME Reviews, the Department will no longer consider the non-market economy (“NME”) entity as an exporter conditionally subject to administrative reviews. See Antidumping Proceedings: Announcement of Change in Department Practice for Respondent Selection in Antidumping Duty Proceedings and Conditional Review of the Nonmarket Economy Entity in NME Antidumping Duty Proceedings, 78 FR 65963 (November 4, 2013).

This administrative review will continue with respect to Shanghai Wells Hanger Co., Ltd. and Hong Kong Wells Ltd.

Assessment

The Department will instruct U.S. Customs and Border Protection (“CBP”) to assess antidumping duties on all appropriate entries. For the companies for which this review is rescinded, antidumping duties shall be assessed at rates equal to the cash deposit of estimated antidumping duties required at the time of entry, or withdrawal from warehouse, for consumption, in accordance with 19 CFR 351.212(c)(1)(i). The Department intends to issue appropriate assessment instructions directly to CBP 15 days after publication of this notice.

Notification to Importers

This notice serves as the only reminder to importers for whom this review is being rescinded, as of the publication date of this notice, of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

Notification Regarding Administrative Protective Orders

This notice also serves as a reminder to parties subject to administrative protective orders (“APO”) of their responsibility concerning the return or destruction of proprietary information disclosed under APO in accordance with 19 CFR 351.305, which continues to govern business proprietary information in this segment of the proceeding. Timely written notification of the return or destruction of APO materials or conversion to judicial protective order is hereby requested. Failure to comply with the regulations and terms of an APO is a violation which is subject to sanction.

Notification to Interested Parties

This notice is issued and published in accordance with sections 751 and 777(i)(l) of the Tariff Act of 1930, as amended, and 19 CFR 351.213(d)(4).

Dated: January 11, 2016.
Christian Marsh,
Deputy Assistant Secretary for Antidumping and Countervailing Duty Operations.

Appendix

1. Da Sheng Hanger Ind. Co., Ltd.

2. Feirongda Weaving Material Co. Ltd.

3. Hangzhou Qingqing Mechanical Co. Ltd.

4. Hangzhou Yingqing Material Co. Ltd.

5. Hangzhou Yinte

6. Hongye (HK) Group Development Co. Ltd.

7. Liaoning Metals & Mineral Imp/Exp Corp.

8. Nantong Eason Foreign Trade Co., Ltd.

9. Ningbo Bingcheng Import & Export Co. Ltd.

10. Ningbo Dasheng Daily Products Co., Ltd.

11. Ningbo Dasheng Hanger Ind. Co. Ltd.

12. Ningbo Peacebird Import & Export Co. Ltd.

13. Shang Zhou Leather Shoes Plant

14. Shanghai Bao Heng Relay Making Co., Ltd.

15. Shanghai Ding Ying Printing & Dyeing Co. Ltd.

16. Shanghai Ganghun Beddiry Clothing Factory

17. Shanghai Guangwei Shoes Co., Ltd.

18. Shanghai Guoxing Metal Products Co. Ltd.

19. Shanghai Jianhai International Trade Co. Ltd.

20. Shanghai Lian Development Co. Ltd.

21. Shanghai Shuang Qiang Embroidery Factory Co. Ltd.

22. Shanghai Tonghui.

23. Shangyu Baoli Electro Chemical Aluminum Products Co., Ltd.

24. Shangyu Baoxiang Metal Manufactured Co. Ltd.

25. Shangyu Tongfang Labour Protective Articles Co., Ltd.

26. Shaoxing Andrew Metal Manufactured Co. Ltd.

27. Shaoxing Dingli Metal Clotheshorse Co. Ltd.

28. Shaoxing Gangyuan Metal Manufactured Co. Ltd.

29. Shaoxing Guochao Metallic Products Co., Ltd.

30. Shaoxing Liangbao Metal Manufactured Co. Ltd.

31. Shaoxing Meideli Hanger Co. Ltd.

32. Shaoxing Shunji Metal Clotheshorse Co., Ltd.

33. Shaoxing Shuren Tie Co. Ltd.

34. Shaoxing Tongzhou Metal Manufactured Co. Ltd.

35. Shaoxing Zhongbao Metal Manufactured Co. Ltd.

36. Shaoxing Zhongdi Foreign Trade Co. Ltd.

37. Tianjin Innovation International

38. Tianjin Tailai Import and Export Co. Ltd.

39. Wahfay Industrial (Group) Co., Ltd.

40. Wesken International (Kunshan) Co. Ltd.

41. Xia Fang Hanger (Cambodia) Co., Ltd.

42. Zhejiang Hongfei Plastic Industry Co. Ltd.

43. Zhejiang Jaguar Import & Export Co. Ltd.

44. Zhejiang Lucky Cloud Hanger Co. Ltd.

[FR Doc. 2016-00920 Filed 1-15-16; 8:45 am]

BILLING CODE 3510-DS-P